DEPARTMENT OF TRANSPORTATION

14 CFR Part 71

[Airspace Docket No. 01-AGL-06]

Modification of Class D Airspace; Bloomington, IN; Modification of Class E Airspace; Bloomington, IN; Correction

AGENCY: Federal Aviation Administration (FAA), DOT.

ACTION: Final rule; correction.

SUMMARY: This action corrects several errors contained in a Final Rule that was published in the Federal Register on Wednesday, May 8, 2002 (67 FR 30778). The Final Rule modified Class D and Class E airspace at Bloomington, IN.

EFFECTIVE DATE: 0901 UTC, June 13, 2002.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 02-11495 published on Wednesday, May 8, 2002 (67 FR 30778), modified Class D and Class E Airspace at Bloomington, IN. The Docket incorrectly referred to Bloomington, IL rather than Bloomington, IN. This action corrects these errors, by replacing the State of IL with the State of IN throughout the document.

Accordingly, pursuant to the authority delegated to me, the errors for the Class D and Class E Airspace, Bloomington, IN, as published in the Federal Register Wednesday, May 8, 2002 (67 FR 30778), (FR Doc. 02-11495), are corrected as follows:

1. On page 30778, Columns 1 and 2, in the heading and preamble, correct “Bloomington, IL” to read “Bloomington, IN”, each place it appears.

§ 71.1 [Corrected]

2. On page 30778, column 3, in the Class D airspace designation under Paragraph 5000, correct “Bloomington, IL” to read “Bloomington, IN”.

3. On page 30779, column 1, in the Class E airspace designation under Paragraph 6005, correct “Bloomington, IL” to read “Bloomington, IN”.

* * * * *

Issued in Des Plaines, Illinois, on July 18, 2002.
Nancy B. Shelton,
Manager, Air Traffic Division, Great Lakes Region.

[FR Doc. 02-19367 Filed 7-30-02; 8:45 am]

BILLING CODE 4910-13-M